DEPARTMENT OF ENERGY

Federal Energy Regulatory Commission

[Project No. 13953-002]

Western Technical College; Notice of Application Tendered for Filing With the Commission and Soliciting Additional Study Requests

Take notice that the following hydroelectric application has been filed with the Commission and is available for public inspection.

a. Type of Application: Original Minor License.

b. Project No.: 13953-002.

c. Date filed: November 22, 2011.

d. Applicant: Mahoning Hydropower, LLC.

e. Name of Project: Lake Milton Hydroelectric Project.

f. Location: The project would be located on the Mahoning River, in Mahoning County, Ohio at an existing dam owned by the Ohio Department of Natural Resources. The project would not occupy federal lands.

g. Filed Pursuant to: Federal Power Act 16 U.S.C. 791(a)-825(r).

h. Applicant Contact: Mahoning Hydropower, LLC, c/o Anthony J. Marra III, General Manager, 11365 Normandy Lane, Chagrin Falls, Ohio 44023, Phone (440) 804-6627.

i. FERC Contact: Isis Johnson, (202) 502-6346, isis.johnson@ferc.gov.

j. Cooperating agencies: Federal, state, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing requests for cooperating agency status: December 22, 2011.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1 (866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The project would be located at the existing Lake Milton Dam, currently owned by the Ohio Department of Natural Resources. Lake Milton Dam is a concrete gravity dam approximately 54 feet high and 760 feet long, with a 650-foot-long spillway and four, 60-inch-diameter gate valves. The project would also consist of the following new facilities: (1) A tubular S-Type propeller, 650-kilowatt turbine-generating unit; (2) a trash rack with a 1-inch clear bar spacing over the existing trashrack; and (3) a 25-foot by 35-foot powerhouse at the base of the dam, over the existing discharge pipe. No new penstock or tailrace are proposed as the turbine would utilize the existing 70-foot-long 60-inch diameter cast iron conduit through the dam, and the flows exiting the turbine would be discharged directly into an existing concrete stilling basin. The proposed project would also include a new 12.5-kilovolt transmission line approximately 320 feet in length that would be constructed and interconnect with an existing distribution line to the west.

The two-mile-long reservoir has a surface area of 1,685 acres at a normal pool elevation of 948 feet above mean sea level. The project would operate in a run-of-river mode and generate power using flows between 25 cubic feet per second (cfs) and 250 cfs. Flows above 250 cfs can be discharged through the three remaining 60-inch discharge pipes. The estimated annual generation of the Lake Milton Project would be 3,659 megawatt-hours at a head range of 26-40 feet.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Ohio State Historic Preservation Officer (SHPO), as required by § 106, National Historic Preservation Act, and the regulations of the Advisory Council on Historic Preservation, 36, CFR, at 800.4.

q. Procedural schedule: The application will be processed according to the following preliminary Hydro Licensing Schedule. Revisions to the schedule will be made as appropriate.

Notice of Acceptance | January 2011.
Scoping Document 1 issued for comments | March 2012.
Comments on Scoping Document 1 | April 2012.
Scoping Document 2 and additional information request, if necessary | May 2012.
Notice of Ready for Environmental Analysis | July 2012.
Commission issues a single EA | February 2013.

Dated: December 2, 2011.
Kimberly D. Bose,
Secretary.

[FR Doc. 2011-31516 Filed 12-7-11; 8:45 am]

BILLING CODE 6717-01-P